DEPARTMENT OF THE INTERIOR

National Park Service

[NPS-WASO-DPOL-1111-8900; 0004-SYM]

Notice of Availability of Draft Director's Order #79 Concerning National Park Service Policies and Procedures Governing Integrity of Scientific and Scholarly Activities

AGENCY: Department of the Interior, National Park Service.

ACTION: Notice of availability.

SUMMARY: The National Park Service (NPS) is proposing to adopt a Director's Order setting forth policies and procedures that guide NPS practices to ensure the integrity of NPS scientific and scholarly activities. This NPS guidance will ensure proper application in the NPS of Department of the Interior guidance on Integrity of Scientific and Scholarly Activities, which is found in Part 305, Chapter 3, of the Department of the Interior Manual (on the Internet at http://elips.doi.gov/app_dm/act_getfiles.cfm?relnum=3889).

DATES: Written comments will be accepted until April 3, 2012.

ADDRESSES: Draft Director's Order #79 is available on the Internet at http://www.nps.gov/policy/DO-79draft.pdf. Requests for copies of, and written comments on, the draft Director's Order should be sent to Dr. Gary Machlis, Science Advisor to the Director, 1849 C Street NW., Washington DC 20240, or to his Internet address: gary_machlis@nps.gov.

FOR FURTHER INFORMATION CONTACT: Gary Machlis at (202) 219-8933 or John G. Dennis at (202) 513-7174 (or john_dennis@nps.gov).

SUPPLEMENTARY INFORMATION: Draft Director's Order #79 addresses Code of Scientific and Scholarly Conduct; reporting and resolving allegations regarding loss of scientific and scholarly integrity; whistleblower protections; ombudsman responsibilities; participation of NPS employees as officers or members on the board of directors of professional societies or other non-federal organizations; participation by non-NPS employees on NPS scientific and scholarly boards, panels, and advisory groups; and maintenance of a reference manual regarding integrity of scientific and scholarly activities.

Public Availability of Comments

Before including your address, phone number, email address, or other personal identifying information in your comment, you should be aware that your entire comment—including your personal identifying information—may be made publicly available at any time. While you can ask us in your comment to withhold your personal identifying information from public review, we cannot guarantee that we will be able to do so.

Gary Machlis,
Science Advisor to the Director.

[FR Doc. 2012-2437 Filed 2-2-12; 8:45 am]

BILLING CODE P